DEPARTMENT OF THE INTERIOR

Bureau of Land Management

[OR-022-01-1060-JJ: G 01-0304]

Oregon: Meeting Notice—Use of Helicopters to Gather Wild Horses

AGENCY: Bureau of Land Management (BLM), Interior.

ACTION: Burns District Office: Public meeting to discuss the use of helicopters to gather wild horses in Oregon.

SUMMARY: In accordance with Pub. L. 92-195, this notice sets forth the public meeting date to discuss the use of helicopters for gathering wild horses in Oregon for FY02.

EFFECTIVE DATE: October 17, 2001—2 p.m. to 3 p.m.

ADDRESSES: The meeting will take place at the BLM Burns District Office, HC 74-12533 Hwy 20 West, Hines, Oregon.

FOR FURTHER INFORMATION CONTACT: Dean O. Bolstad, Wild Horse Management Specialist, Burns District, Bureau of Land Management, HC 74-12533 Hwy 20 West, Hines, Oregon 97738, telephone (541) 573-4492.

SUPPLEMENTARY INFORMATION: Public comments will be accepted concerning the use of helicopters to gather wild horses in eastern Oregon in FY02. The proposed gathering schedule and approximate dates of gathering will be presented at the meeting. Approximately 800 animals are proposed for removal in Oregon depending on availability of funds.

This meeting is open to the public. Persons interested in making an oral statement at this meeting are asked to notify the District Manager, Burns District Office, HC 74-12533 Hwy 20 West, Hines, Oregon 97738 by September 21, 2001. Written statements must be received by September 25, 2001.

Summary minutes of the meeting will be available for public inspection and duplication within 30 days following the meeting.

Dated: August 30, 2001.
Thomas H. Dyer,
Burns District Manager.

[FR Doc. 01-24446 Filed 9-28-01; 8:45 am]

BILLING CODE 4310-33-P